DEPARTMENT OF THE INTERIOR

National Park Service

[NPS-WASO-NAGPRA-NPS0038881; PPWOCRADN0-PCU00RP14.R50000]

Notice of Intended Repatriation: State Historical Society of Wisconsin, Madison, WI

AGENCY: National Park Service, Interior.

ACTION: Notice.

SUMMARY: In accordance with the Native American Graves Protection and Repatriation Act (NAGPRA), the State Historical Society of Wisconsin, otherwise known as the Wisconsin Historical Society (WHS) intends to repatriate a certain cultural item that meets the definition of a sacred object and object of cultural patrimony and that has a cultural affiliation with the Indian Tribes or Native Hawaiian organizations in this notice.

DATES: Repatriation of the cultural item in this notice may occur on or after November 14, 2024.

ADDRESSES: Jacqueline Pozza Reisner, Wisconsin Historical Society, 204 S Thornton Avenue, Madison, WI 53703, telephone (608) 263-3537, email jacqueline.pozza@wisconsinhistory.org.

SUPPLEMENTARY INFORMATION: This notice is published as part of the National Park Service's administrative responsibilities under NAGPRA. The determinations in this notice are the sole responsibility of the Wisconsin Historical Society, and additional information on the determinations in this notice, including the results of consultation, can be found in the summary or related records. The National Park Service is not responsible for the determinations in this notice.

Abstract of Information Available

A total of one cultural item has been requested for repatriation. The item is described in WHS' documentation as a “Chilkat blanket, 44″ x 24″, plus fringe. Yellow, black, blue and white design. Native dyes. Made at Klukwan, Alaska. Mountain goat wool.” Through consultation, the design on the blanket has been identified as one owned by the Tlingit. This blanket was donated to WHS by Mrs. P.A. Strommen of Aniwa, Wisconsin. Mrs. Strommen indicated in correspondence that the blanket was “made by the [Chilkoot] Indians at Klukwan, Alaska.” WHS has no record of this blanket being treated with any potentially hazardous substances in the past. The one sacred item and object of cultural patrimony is one blanket.

Determinations

The Wisconsin Historical Society has determined that:

• The one object described in this notice is, according to the Native American traditional knowledge of an Indian Tribe or Native Hawaiian organization, specific ceremonial objects needed by a traditional Native American religious leader for present-day adherents to practice traditional Native American religion, and has ongoing historical, traditional, or cultural importance central to the Native American group, including any constituent sub-group (such as a band, clan, lineage, ceremonial society, or other subdivision).

• There is a reasonable connection between the cultural item described in this notice and the Central Council of the Tlingit & Haida Indian Tribes.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after November 14, 2024. If competing requests for repatriation are received, the Wisconsin Historical Society must determine the most appropriate requestor prior to repatriation. Requests for joint repatriation of the cultural item are considered a single request and not competing requests. The Wisconsin Historical Society is responsible for sending a copy of this notice to the Indian Tribes and Native Hawaiian organizations identified in this notice and to any other consulting parties.

Authority: Native American Graves Protection and Repatriation Act, 25 U.S.C. 3004 and the implementing regulations, 43 CFR 10.9.

Dated: October 4, 2024.
Melanie O'Brien,
Manager, National NAGPRA Program.

[FR Doc. 2024-23722 Filed 10-11-24; 8:45 am]

BILLING CODE 4312-52-P